DEPARTMENT OF ENERGY

Federal Energy Regulatory Commission

Combined Notice of Filings #1

Take notice that the Commission received the following electric rate filings:

Docket Numbers: ER10-2614-003.

Applicants: ENMAX Energy Marketing, Inc.

Description: ENMAX Energy Marketing, Inc. submits tariff filing per 35: FERC_Electric_Tariff to be effective 8/26/2004.

Filed Date: 03/01/2011.

Accession Number: 20110301-5096.

Comment Date: 5 p.m. Eastern Time on Tuesday, March 22, 2011.

Docket Numbers: ER11-2501-002.

Applicants: Rolling Thunder I Power Partners, LLC.

Description: Rolling Thunder I Power Partners, LLC submits tariff filing per 35.17(b): MBR Tariff Filing of Rolling Thunder I Power Partners, LLC to be effective 3/13/2011.

Filed Date: 03/01/2011.

Accession Number: 20110301-5214.

Comment Date: 5 p.m. Eastern Time on Tuesday, March 22, 2011.

Docket Numbers: ER11-2935-000.

Applicants: Paulding Wind Farm II LLC.

Description: Paulding Wind Farm II LLC submits tariff filing per 35.12: Paulding Wind Farm II LLC MBR Tariff to be effective 4/8/2011.

Filed Date: 02/22/2011.

Accession Number: 20110222-5186.

Comment Date: 5 p.m. Eastern Time on Tuesday, March 15, 2011.

Docket Numbers: ER11-2978-000.

Applicants: Lower Mount Bethel Energy, LLC.

Description: Lower Mount Bethel Energy, LLC submits tariff filing per 35: Lower Mount Bethel Energy, LLC's Application to Remove Certain MBR Conditions to be effective 5/1/2011.

Filed Date: 03/01/2011.

Accession Number: 20110301-5227.

Comment Date: 5 p.m. Eastern Time on Tuesday, March 22, 2011.

Docket Numbers: ER11-2979-000.

Applicants: PPL Brunner Island, LLC.

Description: PPL Brunner Island, LLC submits tariff filing per 35: PPL Brunner Island, LLC's Application to Remove Certain MBR Conditions to be effective 5/1/2011.

Filed Date: 03/01/2011.

Accession Number: 20110301-5229.

Comment Date: 5 p.m. Eastern Time on Tuesday, March 22, 2011.

Docket Numbers: ER11-2980-000.

Applicants: PPL Colstrip I, LLC.

Description: PPL Colstrip I, LLC submits tariff filing per 35: PPL Colstrip I, LLC's Application to Remove Certain MBR Conditions to be effective 5/1/2011.

Filed Date: 03/01/2011.

Accession Number: 20110301-5234.

Comment Date: 5 p.m. Eastern Time on Tuesday, March 22, 2011.

Docket Numbers: ER11-2981-000.

Applicants: PPL Colstrip II, LLC.

Description: PPL Colstrip II, LLC submits tariff filing per 35: PPL Colstrip II, LLC's Application to Remove Certain MBR Conditions to be effective 5/1/2011.

Filed Date: 03/01/2011.

Accession Number: 20110301-5235.

Comment Date: 5 p.m. Eastern Time on Tuesday, March 22, 2011.

Docket Numbers: ER11-2982-000.

Applicants: PPL Electric Utilities Corporation.

Description: PPL Electric Utilities Corporation submits tariff filing per 35: PPL Electric Utilities Corporation's Appliction to Remove Certain MBR Conditions to be effective 5/1/2011.

Filed Date: 03/01/2011.

Accession Number: 20110301-5237.

Comment Date: 5 p.m. Eastern Time on Tuesday, March 22, 2011.

Docket Numbers: ER11-2983-000.

Applicants: PPL EnergyPlus, LLC.

Description: PPL EnergyPlus, LLC submits tariff filing per 35: PPL EnergyPlus, LLC's Application to Remove Certain MBR Conditions to be effective 5/1/2011.

Filed Date: 03/01/2011.

Accession Number: 20110301-5238.

Comment Date: 5 p.m. Eastern Time on Tuesday, March 22, 2011.

Docket Numbers: ER11-2984-000.

Applicants: PPL Great Works, LLC.

Description: PPL Great Works, LLC submits tariff filing per 35: PPL Great Works, LLC's Application to Remove Certain MBR Conditions to be effective 5/1/2011.

Filed Date: 03/01/2011.

Accession Number: 20110301-5239.

Comment Date: 5 p.m. Eastern Time on Tuesday, March 22, 2011.

Docket Numbers: ER11-2985-000.

Applicants: PPL Holtwood, LLC.

Description: PPL Holtwood, LLC submits tariff filing per 35: PPL Holtwood, LLC's Application to Remove Certain MBR Conditions to be effective 5/1/2011.

Filed Date: 03/01/2011.

Accession Number: 20110301-5240.

Comment Date: 5 p.m. Eastern Time on Tuesday, March 22, 2011.

Docket Numbers: ER11-2986-000.

Applicants: PPL Maine, LLC.

Description: PPL Maine, LLC submits tariff filing per 35: PPL Maine, LLC's Application to Remove Certain MBR Conditions to be effective 5/1/2011.

Filed Date: 03/01/2011.

Accession Number: 20110301-5243.

Comment Date: 5 p.m. Eastern Time on Tuesday, March 22, 2011.

Docket Numbers: ER11-2987-000.

Applicants: PPL Martins Creek, LLC.

Description: PPL Martins Creek, LLC submits tariff filing per 35: PPL Martin's Creek, LLC Application to remove Certain MBR Conditions to be effective 5/1/2011.

Filed Date: 03/01/2011.

Accession Number: 20110301-5244.

Comment Date: 5 p.m. Eastern Time on Tuesday, March 22, 2011.

Docket Numbers: ER11-2988-000.

Applicants: PPL Montana, LLC.

Description: PPL Montana, LLC submits tariff filing per 35: PPL Montana, LLC's Application to Remove Certain MBR Conditions to be effective 5/1/2011.

Filed Date: 03/01/2011.

Accession Number: 20110301-5252.

Comment Date: 5 p.m. Eastern Time on Tuesday, March 22, 2011.

Docket Numbers: ER11-2989-000.

Applicants: PPL Montour, LLC.

Description: PPL Montour, LLC submits tariff filing per 35: PPL Montour, LLC's Application to Remove Certain MBR Conditions to be effective 5/1/2011.

Filed Date: 03/01/2011.

Accession Number: 20110301-5258.

Comment Date: 5 p.m. Eastern Time on Tuesday, March 22, 2011.

Docket Numbers: ER11-2990-000.

Applicants: PPL New Jersey Biogas, LLC.

Description: PPL New Jersey Biogas, LLC submits tariff filing per 35: PPL New Jersey Biogas, LLC's Application to Remove Certain MBR Conditions to be effective 5/1/2011.

Filed Date: 03/01/2011.

Accession Number: 20110301-5265.

Comment Date: 5 p.m. Eastern Time on Tuesday, March 22, 2011.

Docket Numbers: ER11-2991-000.

Applicants: PPL New Jersey Solar, LLC.

Description: PPL New Jersey Solar, LLC submits tariff filing per 35: PPL New Jersey Solar, LLC's Application to Remove Certain MBR Conditions to be effective 5/1/2011.

Filed Date: 03/01/2011.

Accession Number: 20110301-5268.

Comment Date: 5 p.m. Eastern Time on Tuesday, March 22, 2011.

Docket Numbers: ER11-2992-000.

Applicants: PPL Renewable Energy, LLC.

Description: PPL Renewable Energy, LLC submits tariff filing per 35: PPL Renewable Energy, LLC's Application to Remove Certain MBR Conditions to be effective 5/1/2011.

Filed Date: 03/01/2011.

Accession Number: 20110301-5269.

Comment Date: 5 p.m. Eastern Time on Tuesday, March 22, 2011.

Docket Numbers: ER11-2993-000.

Applicants: PPL Susquehanna, LLC.

Description: PPL Susquehanna, LLC submits tariff filing per 35: PPL Susquehanna, LLC's Application to Remove Certain MBR Conditions to be effective 5/1/2011.

Filed Date: 03/01/2011.

Accession Number: 20110301-5270.

Comment Date: 5 p.m. Eastern Time on Tuesday, March 22, 2011.

Docket Numbers: ER11-2994-000.

Applicants: PPL University Park, LLC.

Description: PPL University Park, LLC submits tariff filing per 35: PPL University Park, LLC's Application to Remove Certain MBR Conditions to be effective 5/1/2011.

Filed Date: 03/01/2011.

Accession Number: 20110301-5272.

Comment Date: 5 p.m. Eastern Time on Tuesday, March 22, 2011.

Docket Numbers: ER11-2995-000.

Applicants: PPL Wallingford Energy LLC.

Description: PPL Wallingford Energy LLC submits tariff filing per 35: PPL Wallingford, LLC's Application to Remove Certain MBR Conditions to be effective 5/1/2011.

Filed Date: 03/01/2011.

Accession Number: 20110301-5273.

Comment Date: 5 p.m. Eastern Time on Tuesday, March 22, 2011.

Docket Numbers: ER11-2996-000.

Applicants: California Independent System Operator Corporation.

Description: California Independent System Operator Corporation submits tariff filing per 35: 2011-03-01 CAISO's Default Allocation Compliance Filing One Day Out of Time to be effective 6/28/2010.

Filed Date: 03/01/2011.

Accession Number: 20110301-5276.

Comment Date: 5 p.m. Eastern Time on Tuesday, March 22, 2011.

Docket Numbers: ER11-2997-000.

Applicants: Vectren Retail, LLC.

Description: Vectren Retail, LLC submits tariff filing per 35.12: Vectren Retail (d/b/a Vectren Source) MBR Application and Initial MBR Tariff to be effective 3/1/2011.

Filed Date: 03/01/2011.

Accession Number: 20110301-5281.

Comment Date: 5 p.m. Eastern Time on Tuesday, March 22, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: March 2, 2011.
Nathaniel J. Davis, Sr.,
Deputy Secretary.

[FR Doc. 2011-5290 Filed 3-8-11; 8:45 am]

BILLING CODE 6717-01-P